DEPARTMENT OF ENERGY

Federal Energy Regulatory Commission

[Docket No. PF08-24-000]

Calais LNG Project Company, LLC; Supplemental Notice of Intent to Prepare an Environmental Impact Statement for the Calais LNG Project and Request for Comments on Environmental Issues Related to the Potential Expansion of the Maritimes & Northeast Pipeline System

May 27, 2009.

As previously noticed on November 20, 2008, and supplemented herein, the staff of the Federal Energy Regulatory Commission (FERC or Commission) will prepare an environmental impact statement (EIS) that will discuss environmental impacts that could result from construction and operation of the Calais Liquefied Natural Gas (LNG) Project planned by the Calais LNG Project Company, LLC (Calais LNG). The EIS will be used by the Commission in its decision making process to determine whether the project is in the public convenience and necessity.

The planned Calais LNG Project would consist of an onshore LNG import and storage terminal located just north of Ford Point on the St. Croix River, about 6 miles southeast of the Town of Calais in Washington County, Maine; and about 20 miles of natural gas sendout pipeline between the LNG terminal and an interconnection with the existing Maritimes & Northeast Pipeline L.L.C.'s (M&NE) pipeline system near the Town of Baileyville, Maine. The M&NE system currently does not have sufficient capacity to transport the natural gas that would be supplied by the LNG terminal. Therefore, if the Calais LNG Project is authorized and placed into service, the M&NE system would require expansion in Maine, Massachusetts, and New Hampshire.

This Supplemental Notice of Intent (NOI) discloses the potential facilities that are anticipated to expand M&NE's system, based on information provided to Calais LNG by M&NE. Although M&NE is not proposing to construct these facilities and does not have an application before the FERC, these expanded M&NE facilities are likely a necessary part of the project. An analysis of the impacts of these facilities will be included in the EIS being prepared for the Calais LNG facility. This Supplemental NOI is being issued to notify the public about the anticipated M&NE system expansion and to request comments regarding the possible environmental impact of those facilities. Your input will help determine what issues need to be evaluated in the EIS regarding the M&NE system expansion. Please note that the scoping period for this supplemental NOI will close on June 29, 2009.

This notice is being sent to the Commission's current environmental mailing list for this project, which includes federal, state, and local government representatives and agencies; elected officials; environmental and public interest groups; Native American tribes; other interested parties; and local libraries and newspapers. State and local government representatives are asked to notify their constituents of this planned project and encourage them to comment on their areas of concern.

Summary of the Anticipated M&NE Expansion

The following facilities have been identified by M&NE as necessary to accommodate the gas volumes to be delivered by Calais LNG. A summary of the Calais LNG Project was included in the NOI issued on November 20, 2008, and the scoping period closed on December 22, 2008. This NOI may also be accessed via the FERC eLibrary. Instructions about using eLibrary are included in the Additional Information section on page 7.

Pipeline Looping

Approximately 233.4 miles of 36-inch-diameter pipeline looping ¹ is anticipated in or adjacent to the existing M&NE right-of-way (ROW) or other nearby utility or road ROWs, as follows:

¹ A pipeline loop is a segment of pipe that is installed adjacent to or in the vicinity of an existing pipeline and connected to the existing pipeline at both ends. A loop increases the volume of gas that can be transported through that portion of the system.

• Eliot Loop—21.1 miles of 36-inch-diameter pipeline adjacent to the existing 30-inch-diameter Joint Mainline (milepost [MP] 31.1 in Rockingham County, New Hampshire to MP 51.2 in York County, Maine);

• Westbrook Loop—41.1 miles of 36-inch-diameter pipeline adjacent to the existing 30-inch-diameter Joint Mainline (MP 60.3 to MP 101.4 in Cumberland County, Maine);

• Richmond Loop—35.4 miles of 36-inch-diameter pipeline adjacent to the existing 24-inch-diameter Phase II Mainline (MP 107.9 in Cumberland County, Maine to MP 143.4 in Sagadahoc County, Maine);

• Searsmont Loop—35.5 miles of 36-inch-diameter pipeline adjacent to the existing 24-inch-diameter Phase II Mainline (MP 152.0 in Kennebec County, Maine to MP 185.5 in Waldo County, Maine);

• Brewer Loop—34.2 miles of 36-inch-diameter pipeline adjacent to the existing 24-inch-diameter Phase II Mainline (MP 191.6 in Waldo County, Maine to MP 225.8 in Penobscot County, Maine);

• WC Ridge Loop—35.2 miles of 36-inch-diameter pipeline adjacent to the existing 24-inch-diameter Phase II Mainline (MP 230.8 in Penobscot County, Maine to MP 266.0 in Hancock County, Maine); and

• Baileyville Loop—30.9 miles of 36-inch-diameter pipeline adjacent to the existing 24-inch-diameter Phase II Mainline (MP 271.3 in Washington County, Maine to MP 302.2 in Washington County, Maine).

Nearly all 233.4 miles of the required looping are in or adjacent to the existing Joint Mainline or Phase II Mainline ROW or other utility or road ROWs. M&NE's primary goal would be to align, as much as possible, the new looping parallel to the existing Phase II Mainline and Joint Mainline with a 25-foot offset. The side that the loops would be located on would vary due to residential impacts, screening, land use, environmental or construction issues where known to exist.

Compressor Station Facilities ²

² Construction of the Westbrook, Searsmont, Brewer and Woodchopping Ridge Compressor Stations was recently completed as part of Maritimes' Phase IV Project, as described in Docket No. CP06-335-000. These compressor stations were placed into service in January 2009.

A new meter station would be required at the tie-in of the Calais LNG sendout pipeline with the M&NE's system in Baileyville, Maine. Modifications to the existing meter station in Dracut, Massachusetts would be necessary, as well as uprating the maximum allowable operating pressure of the existing Joint Pipeline Facilities from Westbrook, Maine to Dracut, Massachusetts from 1,440 to 1,600 pounds per square inch gauge. Compression requirements for the pipeline expansion would likely include adding a total of 63,000 horsepower of compression to six existing compressor stations. These compressor stations include the Eliot Compressor Station (MP 51.2), Westbrook Compressor Station (MP 101.4), Richmond Compressor Station (MP 147.3), Searsmont Compressor Station (MP 185.5), Brewer Compressor Station (MP 225.8), and WC Ridge Compressor Station (MP 266.1). M&NE would install one new Taurus 70 natural gas-driven turbine compressor at each of these stations. Restaging and repiping the existing compressor unit and installation of gas cooling would also be required at each station.

A map depicting the expansion of the M&NE facilities downstream of the interconnection with Calais LNG is included in appendix 1.³

³ The appendices referenced in this notice are not being printed in the Federal Register, but were sent to all those receiving this notice in the mail. Copies of all appendices are available on the Commission's Web site at the “eLibrary” link or from the Commission's Public Reference Room, 888 First Street, NE., Washington, DC 20426, or call (202) 502-8371. For instructions on connecting to eLibrary, refer to the end of this notice.

The EIS Process

The National Environmental Policy Act (NEPA) requires the Commission to take into account the environmental impacts that could result from an action whenever it considers the issuance of a Certificate of Public Convenience and Necessity. NEPA also requires us ⁴ to discover and address concerns the public may have about proposals. This process is referred to as “scoping.” The main goal of the scoping process is to focus the analysis in the EIS on the important environmental issues. By this Supplemental NOI, the Commission staff requests public comments on the scope of the issues to address in the EIS. All comments received will be considered during the preparation of the EIS.

⁴ “We”, “us”, and “our” refer to the environmental staff of the Commission's Office of Energy Projects.

In the EIS, we will discuss impacts that could occur as a result of the construction and operation of the planned project under these general headings:

• Geology and soils;

• Land use;

• Water resources, fisheries, and wetlands;

• Cultural resources;

• Vegetation and wildlife;

• Air quality and noise;

• Endangered and threatened species;

• Hazardous waste; and

• Public safety.

We will also evaluate possible alternatives to the planned project or portions of the project, and make recommendations on how to lessen or avoid impacts on the various resource areas.

Although no formal application has been filed, we have already initiated our NEPA review under the Commission's Pre-filing Process. The purpose of the Pre-filing Process is to encourage early involvement of interested stakeholders and to identify and resolve issues before an application is filed with the FERC. As part of our Pre-filing review, we have begun to contact some federal and state agencies to discuss their involvement in the scoping process and the preparation of the EIS.

Our independent analysis of the issues will be in the EIS. The draft EIS will be mailed to those on our environmental mailing list (see discussion of how to remain on our mailing list on page 6). A 45-day comment period will be allotted for review of the draft EIS. We will consider all timely comments and revise the document, as necessary, before issuing a final EIS. To ensure your comments are considered, please carefully follow the instructions in the Public Participation section below.

With this Supplemental NOI, we are asking agencies with jurisdiction and/or special expertise with respect to environmental issues to formally cooperate with us in the preparation of the EIS. These agencies may choose to participate once they have evaluated the proposal relative to their responsibilities. Agencies that would like to request cooperating agency status should follow the instructions for filing comments provided under the Public Participation section below. Currently, the U.S. Coast Guard; U.S. Army Corps of Engineers; Environmental Protection Agency; U.S. Department of Commerce; National Oceanic and Atmospheric Administration; and the State of Maine Department of Environmental Protection have expressed their intention to participate as a cooperating agency in the preparation of the EIS to satisfy their NEPA responsibilities related to this project.

Public Participation

You can make a difference by providing us with your specific comments or concerns about the M&NE pipeline expansion for the Calais LNG Project. By becoming a commentor, your concerns will be addressed in the EIS and considered by the Commission. Your comments should focus on the potential environmental effects, reasonable alternatives (including alternative facility sites and pipeline routes), and measures to avoid or lessen environmental impacts. The more specific your comments, the more useful they will be. To ensure that your comments are timely and properly recorded, please send in your comments so that they will be received in Washington, DC on or before June 29, 2009.

For your convenience, there are three methods which you can use to submit your written comments to the Commission. In all instances please reference the project docket number PF08-24-000 with your submission. The Commission encourages electronic filing of comments and has dedicated eFiling expert staff available to assist you at 202-502-8258 orefiling@ferc.gov.

(1) You may file your comments electronically by using the Quick Comment feature, which is located on the Commission's Web site at http://www.ferc.gov under the link to Documents and Filings. A Quick Comment is an easy method for interested persons to submit text-only comments on a project.

(2) You may file your comments electronically by using the eFiling feature, which is located on the Commission's Web site at http://www.ferc.gov under the link to Documents and Filings. eFiling involves preparing your submission in the same manner as you would if filing on paper, and then saving the file on your computer's hard drive. You will attach that file as your submission. New eFiling users must first create an account by clicking on “Sign up” or“eRegister.” You will be asked to select the type of filing you are making. A comment on a particular project is considered a “Comment on a Filing.”

(3) You may file your comments via mail to the Commission by sending an original and two copies of your letter to:

Kimberly D. Bose, Secretary, Federal Energy Regulatory Commission, 888 First Street, NE., Room 1A, Washington, DC 20426.

Label one copy of the comments for the attention of Gas Branch 1, PJ-11.1. Reference Docket No. PF08-24-000 on the original and both copies.

Environmental Mailing List

An effort is being made to send this notice to all individuals, organizations, and government entities interested in and/or potentially affected by the planned project. This includes all landowners who are potential ROW grantors, whose property may be used temporarily for project purposes, or who own homes within certain distances of aboveground facilities (as defined in the Commission's regulations).

If you do not want to send comments at this time but still want to remain on our mailing list, please return the Information Request (appendix 2). If you do not return the Information Request, you will be taken off the mailing list.

Becoming an Intervenor

Once Calais LNG files an application with the Commission, you may want to become an “intervenor”, which is an official party to the proceeding. Intervenors play a more formal role in the process and are able to file briefs, appear at hearings, and be heard by the courts if they choose to appeal the Commission's final ruling. An intervenor formally participates in a Commission proceeding by filing a request to intervene. Instructions for becoming an intervenor are included in the User's Guide under the “eFiling” link on the Commission's Web site. Please note that you may not request intervenor status at this time. You must wait until a formal application for the project is filed with the Commission.

Additional Information

Additional information about the project is available from the Commission's Office of External Affairs, at 1-866-208-FERC (3372) or on the FERC Web site (http://www.ferc.gov) using the eLibrary link. Click on the eLibrary link, select “General Search” and enter the docket number excluding the last three digits (i.e., PF08-24) in the “Docket Number” field. Be sure you have selected an appropriate date range. For assistance with eLibrary, the eLibrary helpline can be reached at 1-866-208-3676, TTY (202) 502-8659, or by e-mail at FercOnlineSupport@ferc.gov. The eLibrary link also provides access to the texts of formal documents issued by the Commission, such as orders, notices, and rule makings.

In addition, the Commission now offers a free service called eSubscription which allows you to keep track of all formal issuances and submittals in specific dockets. This can reduce the amount of time you spend researching proceedings by automatically providing you with notification of these filings, document summaries, and direct links to the documents. Go to http://www.ferc.gov/esubscribenow.htm.

Public meetings or site visits will be posted on the Commission's calendar located at http://www.ferc.gov/EventCalendar/EventsList.aspx along with other related information.

Finally, Calais LNG has established a Web site for this project at http://www.calaislng.com. The Web site includes a project overview, status, potential impacts and mitigation, and answers to frequently asked questions. You can also request additional information by calling Calais LNG directly at 207-214-7074 or visiting the Calais LNG office at 421 Main Street, Calais, Maine.

Kimberly D. Bose,
Secretary.

[FR Doc. E9-12869 Filed 6-2-09; 8:45 am]

BILLING CODE 6717-01-P